SMALL BUSINESS ADMINISTRATION

[ License No. 02/02-0663]

PennantPark SBIC Il, LP; Notice Seeking Exemption Under Section 312 of the Small Business Investment Act, Conflicts of Interest

Notice is hereby given that PennantPark SBIC II, LP, 1590 Madison Avenue, 15th Floor, New York, NY 10022, a Federal Licensee under the Small Business Investment Act of 1958, as amended (”the Act”), in connection with the financing of a small concern, has sought an exemption under Section 312 of the Act and Section 107.730, Financings which Constitute Conflicts of Interest of the Small Business Administration (“SBA”) Rules and Regulations (13 CFR 107.730). PennantPark SBIC Il, LP proposes to provide debt financing to Randall-Reilly Publishing Company, LLC, 3200 Rice Mine Rd NE., Tuscaloosa, AL 35406.

The financing is brought within the purview of § 107.730(a)(4) of the Regulations because the proceeds will be used to discharge an obligation to PennantPark Investment Corporation, an Associate of PennantPark SBIC II, LP. Therefore this transaction requires prior SBA exemption.

Notice is hereby given that any interested person may submit written comments on the transaction, within fifteen days of the date of this publication, to the Associate Administrator for Investment, U.S. Small Business Administration, 409 Third Street SW., Washington, DC 20416.

Dated: December 18, 2013.
Javier E. Saade,
Associate Administrator for Office of Investment and Innovation.

[FR Doc. 2013-30598 Filed 12-23-13; 8:45 am]

BILLING CODE P